NATIONAL CREDIT UNION ADMINISTRATION

12 CFR Part 790

Federal Credit Unions; Miscellaneous Technical Amendment

AGENCY: National Credit Union Administration (NCUA).

ACTION: Final rule.

SUMMARY: The National Credit Union Administration (NCUA) is renaming its Office of Technology and Information Services to make it more consistent with other government agencies. This amendment is technical rather than substantive.

DATES: This rule is effective May 1, 2000.

FOR FURTHER INFORMATION CONTACT: Chrisanthy J. Loizos, Staff Attorney, Division of Operations, Office of General Counsel, (703) 518-6540, National Credit Union Administration, 1775 Duke Street, Alexandria, VA 22314-3428.

SUPPLEMENTARY INFORMATION: In 1994, NCUA changed the name of its Office of Information Systems to the Office of Technology and Information Services. 59 FR 47072, Sept. 14, 1994. On November 18, 1999, the NCUA Board voted to rename this office as the Office of the Chief Information Officer (OCIO). This name is more consistent with similar offices within other government agencies and private industry. Additionally, the name is comparable to the offices of other NCUA executive staff, such as the Office of Chief Financial Officer, Office of the Executive Director, Office of General Counsel, and Office of the Inspector General. 12 CFR 790.2(b). The name change does not alter the description or responsibilities of the OCIO.

Regulatory Procedures

Final Rule Under the Administrative Procedure Act

The amendment to the final rule is technical rather than substantive. NCUA finds good cause that notice and public comment are unnecessary under section 553(b)(B) of the Administrative Procedure Act (APA), 5 U.S.C. 553(b)(B).

Effective Date

NCUA also finds good cause to dispense with the 30-day delayed effective date requirement under section 553(d)(3) of the APA. The rule is technical rather than substantive. The rule will, therefore, be effective immediately upon publication of this notice.

Regulatory Flexibility Act

An initial regulatory flexibility analysis under the Regulatory Flexibility Act is required only when an agency is required to publish a general notice of proposed rulemaking for any proposed rule. 5 U.S.C. 603. As noted previously, NCUA has determined that it is unnecessary to publish a notice of proposed rulemaking for this rule. Accordingly, an initial regulatory analysis is not required. Moreover, since this final rule imposes no new requirements and makes only a technical amendment, NCUA has determined and certifies that this rule will not have any significant economic impact on a substantial number of small credit unions (primarily those under $1 million in assets).

Small Business Regulatory Enforcement Fairness Act

Title II of the Small Business Regulatory Enforcement Fairness Act (SBREFA) of 1996 (Pub. L. 104-121) provides, generally, for congressional review of agency rules. A reporting requirement is triggered in instances where NCUA issues a final rule as defined by section 551 of the Administrative Procedures Act. 5 U.S.C. 551. The Office of Management and Budget has reviewed this rule and has determined that for purposes of the Small Business Regulatory Enforcement Fairness Act of 1996 it is not a major rule.

Paperwork Reduction Act

NCUA has determined that the final rule does not increase paperwork requirements under the Paperwork Reduction Act of 1995 (44 U.S.C. 3501 et seq.) and regulations of the Office of Management and Budget.

Executive Order 13132 Statement

Executive Order 13132 encourages independent regulatory agencies to consider the impact of their regulatory actions on state and local interests. In adherence to fundamental federalism principles, NCUA, an independent regulatory agency as defined in 44 U.S.C. 3502(5), voluntarily complies with the executive order. NCUA has determined that this final rule does not constitute a policy that has federalism implications for purposes of the executive order.

List of Subjects in 12 CFR Part 790

Credit unions.

By the National Credit Union Administration Board on April 13, 2000.
Becky Baker,
Secretary of the Board.

For the reasons stated in the preamble, NCUA amends 12 CFR chapter VII as set forth below:

PART 790—DESCRIPTION OF NCUA; REQUESTS FOR AGENCY ACTION

1. The authority citation for part 790 continues to read as follows:

Authority: 12 U.S.C. 1766, 1789, 1795f.

§ 790.2 [Amended]

2. Amend § 790.2 as follows:

a. In paragraph (b)(7), remove “Technology and Information Systems” and add, in its place, “Chief Information Officer”.

b. In paragraph (b)(10), remove “Office of Technology and Information

Services” in the heading and add, in its place, “Office of the Chief Information Officer”.

c. In paragraph (b)(10), remove “Director of the Office of Technology and Information Services” in the first sentence and add, in its place, “Chief Information Officer”.

[FR Doc. 00-10616 Filed 4-28-00; 8:45 am]

BILLING CODE 7535-01-U